DEPARTMENT OF AGRICULTURE

Forest Service

Administration of Educational Land Grant Act Requests for Conveyance of National Forest System Lands; Interim Direction

AGENCY: Forest Service, USDA.

ACTION: Notice of availability.

SUMMARY: The Forest Service has issued an Interim Directive to provide internal administrative direction to guide its employees in the processing of proposals and applications to transfer National Forest System lands to public school districts for educational purposes under the Educational Land Grant Act of 2000 (114 Stat. 368; 16 U.S.C. 479a). The interim directive was issued to Chapter 30 of the Forest Service Handbook (FSH) 5509.11 on Title Claims, Sales, and Grants as Interim Directive No. 5509.11-2002-1.

DATES: The Interim Directive was issued May 24, 2002, and will be effective on June 4, 2002.

ADDRESSES: The interim directive is available electronically from the Forest Service via the World Wide Web/Internet at http://www.fs.fed.us/im/directives. Single paper copies of the interim directive are also available from the Lands Staff, Mail Stop 1124, Forest Service, USDA, 1400 Independence Avenue, SW., Washington, DC 20250.

FOR FURTHER INFORMATION CONTACT: Forest Service Lands Staff, Greg Smith at (202) 205-1769 or Ben Bibb at (202) 205-1238.

Dated: May 24, 2002.
Gloria Manning,
Associate Deputy Chief, National Forest System.

[FR Doc. 02-13693 Filed 5-30-02; 8:45 am]

BILLING CODE 3410-11-P